DEPARTMENT OF LABOR

Employment and Training Administration

[TA-W-75,120A]

Steelcase, Inc., North America Division, Including Workers From Steelcase University Also Known as Steelcase Learning Center, a Subsidiary of Steelcase, Inc., Including On-Site Leased Workers From Manower, Inc., Grand Rapids, MI; Amended Certification Regarding Eligibility To Apply for Worker Adjustment Assistance

In accordance with Section 223 of the Trade Act of 1974, as amended (“Act”), 19 U.S.C. 2273, the Department of Labor issued a Certification of Eligibility to Apply for Worker Adjustment Assistance on February 4, 2011, applicable to workers of Steelcase, Inc., North America Division, including on-site leased workers from Manpower, Inc., Grand Rapids, Michigan. The workers are engaged in the production of office furniture. The notice was published in the Federal Register on February 24, 2011 (76 FR 10399). The notice was amended on February 24, 2011 to correct the impact date to read December 10, 2010. The amended notice was published in the Federal Register on March 10, 2011 (76 FR 13228).

At the request of the State Agency, the Department reviewed the certification for workers of the subject firm.

The review shows Steelcase University, also known as Steelcase Learning Center, is a subsidiary of Steelcase, Inc. Since Steelcase University, also known as Steelcase Learning Center, a subsidiary of Steelcase, Inc. operates internally with Steelcase, Inc., only provides services to the parent company, Steelcase, Inc. and both are experiencing worker layoffs.

Based on these findings, the Department is amending this certification to include workers of Steelcase University, also known as Steelcase Learning Center, a subsidiary of Steelcase, Inc., Grand Rapids, Michigan.

The intent of the Department's certification is to include all workers employed at Steelcase, Inc., North America Division, Grand Rapids, Michigan who were adversely affected by a shift in production of office furniture to Mexico.

The amended notice applicable to TA-W-75,120A is hereby issued as follows:

“All workers of Steelcase, Inc., North America Division, including workers from Steelcase University, also known as Steelcase Learning Center, a subsidiary of Steelcase, Inc., including on-site leased workers from Manpower, Inc., Grand Rapids, Michigan (TA-W-75,120A), who became totally or partially separated from employment on or after December 10, 2010 through February 4, 2013, and all workers in the group threatened with total or partial separation from employment on date of certification through two years from the date of certification, are eligible to apply for adjustment assistance under Chapter 2 of Title II of the Trade Act of 1974, as amended.”

Signed in Washington, DC, this 5th day of July, 2011.
Del Min Amy Chen,
Certifying Officer, Office of Trade Adjustment Assistance.

[FR Doc. 2011-17668 Filed 7-13-11; 8:45 am]

BILLING CODE 4510-FN-P